ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register changes to the HAVA State plans previously submitted by Idaho, Iowa, and Pennsylvania.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates. This is Idaho's first revision to its State plan; Iowa's second revision to its State plan; and Pennsylvania's third revision to its State plan.

The revised State plans from Idaho, Iowa, and Pennsylvania address changes in the respective budgets of the previously submitted State plans and account for the use of Fiscal Year 2008 requirements payments. In accordance with HAVA section 254(a)(12), all the State plans submitted for publication provide information on how the respective State succeeded in carrying out its previous State plan. The States all confirm that these changes to their respective State plans were developed and submitted to public comment in accordance with HAVA sections 254(a)(11), 255, and 256.

Upon the expiration of thirty days from October 27, 2008, the State is eligible to implement the changes addressed in the plan that is published herein, in accordance with HAVA section 254(a)(11)(C).

EAC wishes to acknowledge the effort that went into revising these State plans and encourages further public comment, in writing, to the State election officials listed below.

Chief State Election Official

The Honorable Ben Ysursa, Secretary of State, P.O. Box 83720, Boise, Idaho 83720-0080, Phone: (208) 334-2852, Fax: (208) 334-2282.

The Honorable Michael A. Mauro, Secretary of State, 1007 East Grand Avenue, Room 105, State Capitol, Des Moines, IA 50319, Phone: (515) 281-5204, Fax: (515) 242-5952.

The Honorable Pedro A. Cortés, Secretary of the Commonwealth, 302 North Office Building, Harrisburg, Pennsylvania 17120, Phone: (717) 787-8727, Fax: (717) 787-1734.

Thank you for your interest in improving the voting process in America.

Dated: October 21, 2008.
Thomas R. Wilkey,
Executive Director, U.S. Election Assistance Commission.

Office of the Iowa Secretary of State

Michael A. Mauro, Secretary of State, Lucas Building, 1st Floor, Des Moines, IA 50319.

September 10, 2008.

Edgardo Cortes,

Acting Director, Election Administration Support Division, U.S. Election Assistance Commission, 1225 New York Ave., NW., Ste. 150, Washington, DC 20005.

RE: Iowa Revised State Plan.

Dear Mr. Cortes:

Enclosed is the Revised HAVA State Plan for Iowa. The Plan only addresses the sections of the original Plan that have been revised. All other sections remain the same.

Please let Ann Clary know if additional information is required or if you have any questions. Ann may be contacted at 515-281-8361 or ann.clary@sos.state.ia.us.

Your assistance with this process is greatly appreciated.

Sincerely,

Michael Mauro,

Secretary of State.

Enclosure.

Phone 515-281-5204; Fax 515-242-5953; http://www.sos.state.ia.us. sos@sos.state.ia.us.

Section 12: Changes to State Plan From Previous Fiscal Year

Plan Element 12. In the case of a State with a State plan in effect under this subtitle during the previous fiscal year, a description of how the plan reflects changes from the State plan for the previous fiscal year and of how the State succeeded in carrying out the State plan for such previous fiscal year.

The initial Iowa State Plan was adopted in 2003 and amended in 2005. This amendment reflects changes in the plan in anticipation of the receipt of additional requirements payments in 2008.

Section 1: State Plan Required Elements

301. Voting Systems Standards

In 2005 and 2006 Iowa completed the purchase and deployment of HAVA-compliant voting systems in 96 of 99 counties. Three counties, in anticipation of additional improvements to voting equipment chose to lease HAVA-compliant equipment. The equipment purchased and leased falls into the following categories:

Type of voting system | Number of counties
All-DRE | 19
Blended systems: Optical scan with DRE for accessibility | 59
Optical scan with ballot marking device for accessibility | 21

Replace DRE Voting Systems With Optical Scan Voting Systems

In 2008 the State of Iowa changed its voting equipment laws to prohibit use of DRE voting equipment and mandated that the counties replace all DREs with optical scan voting systems and accessible ballot marking devices. This change must be implemented for the November 4, 2008, General Election. See Appendix A: Senate File 2347.

The 2008 requirements payment will be used to purchase optical scan voting systems with ballot marking devices for three counties that have not yet purchased voting equipment using HAVA funds. Remaining HAVA funds will be used to replace DRE voting equipment in 78 Iowa counties. The DRE voting equipment will be replaced with optical scan systems (in all-DRE counties) and ballot-marking devices to provide nonvisual accessibility for blind and visually impaired voters in a manner that provides the same opportunity for access and participation (including privacy and independence) as for other voters, as required by HAVA section 301(a)(3). One optical scan device and one ballot-marking device will be provided for each general election precinct in the all-DRE counties. Optical scan devices will also be purchased for tabulation of absentee ballots.

Meeting Accessibility Requirements

All DRE voting equipment that was purchased to satisfy the HAVA accessibility requirements will be replaced with ballot marking devices to provide nonvisual accessibility for blind and visually impaired voters in a manner that provides the same opportunity for access and participation (including privacy and independence) as for other voters, as required by HAVA section 301(a)(3). Ballot-marking devices will be purchased for in-person absentee voters in the 78 counties changing from DREs. In addition, ballot-marking devices will be purchased for five counties currently using optical scan systems that had not previously purchased ballot-marking devices for use by in-person absentee voters.

Voting Equipment Technical Support Services

This section of the Plan is rescinded. The Secretary of State did not implement this program in the original plan. This program is described in the original plan as follows: To assist with the conversion process to DRE based systems in the lever counties and in each precinct to meet accessibility requirements, it is recommended that a technical support staff with extensive training on the prevalent voting equipment be established. The technical support services shall initially be funded entirely with HAVA funds. After the establishment of the program the funding will be re-evaluated and funding this position through a county and state partnership will be considered.

302. Provisional Voting and Voting Information Requirements

Iowa has met the requirements of section 302.

303. Computerized Statewide Voter Registration List Requirements and Requirements for Voters Who Register by Mail

Iowa has met the requirements of section 303 and continues to use HAVA funds for maintenance of the system. No change from previous plan.

304. Minimum Requirements

No change to this section.

305. Methods of Implementation Left to Discretion of State

No change to this section.

312. Adoption of Voluntary Guidance by Commission

No change to this section.

251(b)(2) Other Activities

No change to this section.

Section 2: Distribution of Requirements Payments

The State will purchase the voting equipment necessary to replace all DREs in the state and will transfer ownership of the equipment to the counties. The HAVA 2008 Requirements Payment will be used to reimburse the Rebuild Iowa Infrastructure Fund for part of the cost of the voting equipment.

Program Costs
Description | Costs | Resources
1 Voting equipment, Premier | $8,577,155.00 |
2 Voting equipment, ES&S | $1,181,940.00 |
3 Total initial cost | $9,759,095.00 |
Less vendor discounts & credits:
4 Premier: Quantity | $250,000.00 |
5 Premier: Trade-in | $455,100.00 |
6 Premier: lease credit | $428,000.00 |
7 ES&S: Trade-in | $32,230.00 |
8 Total discounts & credits | $1,165,330.00 |
9 Final cost of equipment | $8,593,765.00 |
State match for 2008 Req. Pmt. | $61,000.00 |
Total Project Amount | $8,654,765.00 |
10 Current remaining HAVA budget for 3 counties |  | $1,618,386.00
11 Remaining HAVA equipment budget |  | $135,499.00
12 Total existing HAVA equipment |  | $1,753,885.00
13 State appropriation 2007 |  | $2,000,000.00
14 State appropriation 2008 |  | $4,900,880.00
15 Total state appropriation |  | $6,900,880.00
16 Current available funding |  | $8,654,765.00
2008 Requirements payment |  | $1,167,798.00

The Iowa General Assembly has appropriated a total of $6,900,880 to fund the purchase of optical scan voting systems and ballot marking devices with the condition that any federal funds that are received will be used to reimburse the fund from which those funds were appropriated.

Sixty-six percent of the project cost will be funded with state appropriations. Existing HAVA funds represent 20.25%; the 2008 requirements payment represents 13.49%.

The Secretary of State has adopted Administrative Rules defining the method of distributing and monitoring the funds for this program. See Appendix B.

Maintenance of Effort

Iowa has maintained the expenditures of the State for activities funded by the HAVA payments at a level that is not less than the level of such expenditures maintained by the State for the fiscal year July 1, 1999 through June 30, 2000.

Title I Funds

Iowa has no remaining funds received under HAVA Title I.

HAVA Plan Committee

Secretary of State Michael Mauro has appointed a new HAVA Plan Committee. The members are:

Jamie Fitzgerald, Polk County Auditor.

Joel Miller, Linn County Auditor.

Ken Kline, Cerro Gordo County Auditor and President of the Iowa State Association of County Auditors.

Rik Shannon, Governor's Developmental Disability Council, Department of Human Services, Des Moines.

Linda Langenberg, Deputy Secretary of State.

Appendix A

Senate File 2347

SENATE FILE ____

BY COMMITTEE ON APPROPRIATIONS

(SUCCESSOR TO SSB 3262)

Passed Senate, Date ____

Vote: Ayes ____ Nays ____

Passed House, Date ____

Vote: Ayes ____ Nays ____

Approved ________

A BILL FOR

1 An Act relating to the use of optical scan voting systems in

2 every county, making an appropriation for the cost of

3 purchasing and distributing optical scan voting systems,

4 reducing certain appropriations, providing for continuing

5 education for certain election personnel, and providing an

6 effective date.

7 BE IT ENACTED BY THE GENERAL ASSEMBLY OF THE STATE OF IOWA:

8 SF 2347

9 sc:rj/cc/26

PAG | LIN
1 | 1 Section 1. NEW SECTION. 47.10 OPTICAL SCAN VOTING SYSTEM
1 | 2 FUND.
1 | 3 An optical scan voting system fund is established in the
1 | 4 office of the treasurer of state under the control of the
1 | 5 secretary of state. Moneys in the fund are appropriated to
1 | 6 the office of the secretary of state for purchase and
1 | 7 distribution of optical scan voting system equipment to
1 | 8 counties to assist county compliance with section 52.2,
1 | 9 subsection 2. The secretary of state, in consultation with
1 | 10 the department of administrative services, shall establish a
1 | 11 procedure for purchasing and distributing the equipment.
1 | 12 Sec. 2. Section 49.124, Code 2007, is amended to read as
1 | 13 follows:
1 | 14 49.124 TRAINING COURSE BY COMMISSIONER—CONTINUING
1 | 15 EDUCATION PROGRAM.
1 | 16 1. The commissioner shall conduct, not later than the day
1 | 17 before each primary and general election, a training course
1 | 18 for all election personnel, and the commissioner may do so
1 | 19 before any other election the commissioner administers. The
1 | 20 personnel shall include all precinct election officials and
1 | 21 any other persons who will be employed in or around the
1 | 22 polling places on election day. At least two precinct
1 | 23 election officials who will serve on each precinct election
1 | 24 board at the forthcoming election shall attend the training
1 | 25 course. If the entire board does not attend, those members
1 | 26 who do attend shall so far as possible be persons who have not
1 | 27 previously attended a similar training course.
1 | 28 2. A continuing education program shall be provided to
1 | 29 election personnel who are full-time or part-time permanent
1 | 30 employees of the commissioner's office. The state
1 | 31 commissioner of elections shall adopt rules pursuant to
1 | 32 chapter 17A to implement and administer the continuing
1 | 33 education program.
1 | 34 Sec. 3. Section 52.2, subsection 2, Code Supplement 2007,
1 | 35 is amended by striking the subsection and inserting in lieu
2 | 1 thereof the following:
2 | 2 2. Notwithstanding any provision to the contrary, for
2 | 3 elections held on or after November 4, 2008, a county shall
2 | 4 use an optical scan voting system only. The requirements of
2 | 5 the federal Help America Vote Act relating to disabled voters
2 | 6 shall be met by a county through the use of electronic ballot
2 | 7 marking devices that are compatible with an optical scan
2 | 8 voting system.
2 | 9 Sec. 4. Section 52.7, subsection 1, paragraph l, Code
2 | 10 Supplement 2007, is amended by striking the paragraph.
2 | 11 Sec. 5. OPTICAL SCAN VOTING SYSTEM FUND—APPROPRIATION.
2 | 12 There is appropriated from the rebuild Iowa infrastructure
2 | 13 fund to the office of the secretary of state for the fiscal
2 | 14 year beginning July 1, 2007, and ending June 30, 2008, the
2 | 15 following amount, or so much thereof as is necessary, to be
2 | 16 used for the purpose designated:
2 | 17 For deposit into the optical scan voting system fund, as
2 | 18 established in section 47.10, notwithstanding section 8.57,
2 | 19 subsection 6, paragraph “c”:
2 | 20 .................................................. $4,900,880
2 | 21 1. If any federal funding is received for the same or
2 | 22 similar purposes authorized in section 47.10, as enacted by
2 | 23 this Act, of the amount appropriated in this section, $61,000
2 | 24 is allocated for matching such federal funding, and an amount
2 | 25 equal to the federal funding received shall revert from the
2 | 26 amount appropriated to the rebuild Iowa infrastructure fund at
2 | 27 the end of the fiscal year.
2 | 28 2. Notwithstanding section 47.9, as of the effective date
2 | 29 of this Act, all remaining moneys in the voting machine
2 | 30 reimbursement fund established in section 47.9 shall be
2 | 31 transferred to the optical scan voting system fund established
2 | 32 in section 47.10. Notwithstanding section 8.33, except as
2 | 33 otherwise provided in subsection 1, the moneys appropriated
2 | 34 and transferred in accordance with this section shall not
2 | 35 revert to the fund from which appropriated or transferred.
3 | 1 3. On or before December 31, 2008, the secretary of state
3 | 2 shall submit a report to the chairpersons and ranking members
3 | 3 of the joint appropriations subcommittee on administration and
3 | 4 regulation regarding the expenditures of moneys from the
3 | 5 optical scan voting system fund and distribution of equipment
3 | 6 to counties appropriated in this section.
3 | 7 Sec. 6. [not applicable and omitted intentionally]
4 | 1 Sec. 7. [not applicable and omitted intentionally]
4 | 10 Sec. 8. Section 47.9, Code Supplement 2007, is repealed.
4 | 11 Sec. 9. EMERGENCY RULES. The secretary of state may adopt
4 | 12 emergency rules under section 17A.1, subsection 2, and section
4 | 13 17A.5, subsection 2, paragraph “b”, to implement the
4 | 14 provisions of this Act relating to optical scan voting
4 | 15 systems, and the rules shall be effective immediately upon
4 | 16 filing unless a later date is specified in the rules. Any
4 | 17 rules adopted in accordance with this section shall also be
4 | 18 published as a notice of intended action as provided in
4 | 19 section 17A.4.
4 | 20 Sec. 10. EFFECTIVE DATE. This Act, being deemed of
4 | 21 immediate importance, takes effect upon enactment.
4 | 22 SF 2347
4 | 23 sc:rj/cc/26

Appendix B

Administrative Rules defining the method of distributing and monitoring the funds for this program.

ARC 6727B.

SECRETARY OF STATE [721]

Adopted and Filed Emergency

Pursuant to the authority of Iowa Code chapter 17A and 2008 Iowa Acts, Senate File 2347, section 9, the Secretary of State hereby amends Chapter 22, “Voting Systems,” Iowa Administrative Code.

The amendment to Chapter 22 rescinds and replaces rule 721-22.32(52), which was first adopted in 2007 to implement the addition of voter-verifiable paper audit trails to direct recording electronic (DRE) voting equipment currently in use in Iowa. In 2008, the General Assembly outlawed the use of DRE voting equipment and mandated its replacement with optical scan voting equipment and ballot-marking devices. New rule 721-22.32(52) provides a process for the purchase of the new voting equipment.

The Agency finds, in compliance with Iowa Code section 17A.4(2), that notice and public participation are impracticable because 2008 Iowa Acts, Senate File 2347, which became effective on April 1, 2008, authorizes the Secretary of State to adopt emergency rules to implement the provisions of Senate File 2347 relating to optical scan voting systems.

The Agency also finds, pursuant to Iowa Code section 17A.5(2)“b”(1), that the normal effective date of this rule should be waived and this rule should be made effective upon filing with the Administrative Rules Coordinator on April 2, 2008, as authorized by 2008 Iowa Acts, Senate File 2347, section 9.

This rule is also published herein under Notice of Intended Action as ARC 6728B, as required by 2008 Iowa Acts, Senate File 2347, section 9, in order to allow for public comment.

The Secretary of State adopted this rule on April 2, 2008.

This rule became effective on April 2, 2008.

This rule is intended to implement 2008 Iowa Acts, Senate File 2347.

The following amendment is adopted.

Rescind rule 721-22.32(52) and adopt the following new rule in lieu thereof:

721-22.32(52) Optical scan voting system purchase program. The secretary of state shall negotiate with the voting system vendors who serve Iowa counties for a uniform price for each vendor's optical scan voting system components. Counties currently using all direct recording electronic (DRE) voting machines shall purchase one optical scan tabulator and one ballot-marking device for use in each general election voting precinct. Counties currently using an optical scan tabulator with a DRE voting machine as the accessible component in each precinct shall purchase one ballot-marking device for each precinct used in general elections to replace the DRE voting machine. Allocation agreements setting forth the amount of funding each county in need of optical scan voting equipment will be allocated shall be prepared by the secretary of state. The secretary of state, the vendor, and each county shall sign the allocation agreements.

22.32(1) Contractual agreements. Contracts for purchase shall be between the vendor and the county.

22.32(2) Distribution of equipment. The appropriate vendor shall deliver the equipment to each county with which the vendor has a contract for purchasing voting equipment.

22.32(3) Acceptance testing. Upon receipt of the voting equipment, the commissioner shall conduct acceptance testing pursuant to rule 721-22.31(52).

22.32(4) Documentation. The commissioner shall provide the following information to the secretary of state:

a. A report showing that the county has subjected all equipment to acceptance testing and that the equipment is acceptable.

b. A copy of the invoice showing the date the county received the equipment and the total cost of the equipment.

c. Counties currently using the AccuVote TSX DRE shall provide an affidavit showing that the AccuVote TSX DRE was returned to the vendor.

22.32(5) Payment. Upon receipt of the required information, the secretary of state shall pay the vendor the amount agreed to in the county allocation agreement.

This rule is intended to implement 2008 Iowa Acts, Senate File 2347.

[Filed Emergency 4/2/08, effective 4/2/08.]

[Published 4/23/08.]

State of Idaho

State Plan

As required by Public Law 107-252, Help America Vote Act 2002, Section 253 (b).

Ben Ysursa, Secretary of State, 700 West Jefferson, PO Box 83720, Boise, Idaho 83720-0080, (208) 334-2852.

Idaho Votes.

Every Vote Counts.

2004.

Amended 2008.

6. Idaho's HAVA Budget

The State's proposed budget for activities under this part, based on the State's best estimates of the costs of such activities and the amount of funds to be made available, including specific information on—

(A) The costs of the activities required to be carried out to meet the requirements of title III;

(B) the portion of the requirements payment which will be used to carry out activities to meet such requirements; and

(C) the portion of the requirements payment, which will be used to carry out other activities.—HAVA Section 254(a)(6)

Section 101 money deposited into the Democracy Fund should be used in the following order of priority:

1. Statewide voter registration list

2. Voting System Replacement

3. Election Worker Training

4. State Plan Development and Compliance Monitoring

Grants available from U.S. Health and Human Services for polling place accessibility will continue to be applied for by the Secretary of State to develop training materials and to assist counties in meeting their accessibility needs.

Title II money received will be used to purchase equipment that meets the requirements of Title III, including the accessible voting device for the blind and visually impaired in each polling place, and will be deposited in the Democracy Fund to be made available to the various counties to upgrade or replace their voting systems. Funds will also be used to develop a statewide voter registration system and will also be deposited and maintained in the Democracy Fund to provide ongoing operation and support for the system.

The chart below lists the activities and costs of HAVA activities to be implemented in Idaho using both Title I and Title II monies for each activity. The chart reflects the dollars to be used if HAVA is fully funded and the state received its full share of the funds.

Overall HAVA Compliance Budget
HAVA requirement | Estimated cost | Title II funds | Title I funds
Statewide voter registration system development | $5,000,000 | $4,500,000 | $500,000
Statewide voter registration system operations and support | 1,800,000 | 1,000,000 | 800,000
Accessible voting device for each polling place | 6,300,000 | 6,300,000 |
Voting system upgrade grant program for counties | 6,300,000 | 3,000,000 | 3,300,000
Voter education and outreach | 200,000 | 100,000 | 100,000
Election worker training | 200,000 | 100,000 | 100,000
State plan development and HAVA compliance monitoring | 200,000 |  | 200,000

10. Effect of Title I Payments

If the State received any payment under Title I, a description of how such payment will affect the activities proposed to be carried out under the plan, including the amount of funds available for such activities.—HAVA Section 254(a)(10)

Section 101. Payments to States for activities to improve administration of elections.

Idaho is eligible for approximately $5 million under Section 101. These funds will be used for activities to meet the following requirements:

1. Statewide voter registration system | $500,000
2. On-going support of voter registration system | 800,000
3. Voter Education | 100,000
4. Election Worker Training | 100,000
5. Plan development and administration | 200,000
6. Voting System Upgrades | 3,300,000
Total | 5,000,000

Idaho is a “minimum state” for receiving HAVA funds. All of the funds received under Title I will be required to be used in meeting the requirements of Title III and to purchase replacement voting systems that meet the requirements of Title II.

12. Changes to State Plan From Previous Fiscal Year

In the case of a State with a State plan in effect under this subtitle during the previous fiscal year, a description of how the plan reflects changes from the State Plan for the previous fiscal year and of how the State succeeded in carrying out the State Plan for such previous fiscal year.—HAVA Section 254(a)(12).

The 2004 Plan has been updated with this 2008 Amended Plan. Changes in the Plan consist of the following:

• Addition of $575,000 in Title II funds to provide full funding of the amount authorized by Congress under HAVA.

• Details the use of Title I and Title II funds to meet the requirements of HAVA.

• Changes the budget of the Title I funds

Summary of Successes to Date

The State of Idaho has been working diligently to address the requirements of HAVA. Below are some of the successes to date and the State's ongoing efforts to meet the requirements and improve federal elections.

Statewide Voter Registration System

In order to meet the requirement of HAVA Section 303, the State entered into a contract with Covansys (now Saber Government Solutions) to develop a statewide voter registration system. The contract included all application programming and hardware specifications, which were purchased separately, along with the conversion of each county's database to the statewide database and to provide access to each county elections office over a secure state intranet.

As with any new computer application, the system requires ongoing maintenance and support in order to achieve optimum performance and the State is working with the various counties and Saber to achieve that.

Accessible Voting Equipment

The State purchased a voter assistance device for each polling place in the state. The devices allow those with disabilities, including the blind and sight impaired, to vote privately and independently on an optical scan ballot.

Voting System Upgrades

Idaho uses three method of voting in federal elections: (1) Hand counted paper ballots, (2) punch cards and (3) optical scan ballots. In order to provide voting systems that meet the requirements of Section 301 of HAVA, the State has set up a grant program that allows the counties to request funding to upgrade their current system by purchasing new equipment. The grant program requires the counties to provide a 20% match to the money provided by the State.

Voter Education and Poll Worker Training

Idaho counties utilize both central count and precinct count vote tabulation. Since approximately one-third of the counties use hand count paper ballots and others use central count systems, an extensive voter education and poll worker education program has been set up and is ongoing to make certain that voters are instructed on the effect of casting multiple votes for an office, instructions on how to correct an error made in voting before the ballot is cast and the accessibility of polling places.

Training materials, including video presentations, have been developed or updated and distributed for instructing election workers on the proper setup and operations of the voter assistance device and to heighten the awareness and sensitivity of election workers to the special needs of the elderly and persons with disabilities.

13. State Plan Development and Committee

A description of the committee which participated in the development of the State plan in accordance with section 255 and the procedures followed by the Committee under such section 255 and section 256.—HAVA Section 254(a)(13)

The HAVA State Planning Committee consists of individuals representing a cross-section of election stakeholders. The Committee was selected by Secretary of State Ben Ysursa.

Members of the State Planning Committee are as follows:

Dr. James Weatherby, Professor Emeritas, Boise State University, 1910 University Drive, Boise, Idaho 83725-1935;

Kelly Buckland, Idaho State Independent Living Council, 350 N. 9th Street, Ste. 102, PO Box 83720, Boise, Idaho 83702;

Dan English, Kootenai County Clerk, PO Box 9000, Coeur d'Alene, Idaho 83816-9000;

Rose Gehring, Idaho County Clerk, 320 w. Main, Rm. 5, Grangeville, Idaho 83530;

David Navarro, Ada County Clerk, 200 W. Front Street, Boise, Idaho 83702;

Barbara Roberts, Democratic Party, 1701 N. 21st., Boise, Idaho 83702;

Norm Semanko, Chairman, Idaho Republican State Party, P.O. Box 2267, Boise, Idaho 83701;

The Honorable Shirley Ringo, State Representative, Legislative District 6, STATEHOUSE MAIL;

The Honorable Ken Roberts, State Representative, Legislative District 8, STATEHOUSE MAIL;

Tony P.O.inelli, Association of Counties, P.O. Box 1623, Boise, Idaho 83701;

Dave Gipson, %Caxton Printers, 312 Main Street, Caldwell, Idaho 83605;

Sharon Widner, Washington County Clerk, P.O. Box 670, Weiser, Idaho 83672;

Eleanor Chehey, League of Women Voters, Boise, Idaho 83703;

Brian Kane, Office of the Attorney General, Statehouse, Boise, Idaho 83720;

Tim Hurst, Office of the Secretary of State, Statehouse, Boise, Idaho 83720;

Jim Mairs, Office of the Secretary of State, Statehouse, Boise, Idaho 83701.

Addendum to the Commonwealth of Pennsylvania State Plan as Required by Public Law 107-252

The Help America Vote Act

July 21, 2008

In accordance with Section 255 of the Help America Vote Act (HAVA) of 2002, the Pennsylvania Department of State is pleased to file this addendum to Elements 6, 12 and 13 of the Commonwealth of Pennsylvania State Plan.

Element 6

Element 6 sets forth the Commonwealth's budget for activities under Part II of HAVA, based on an estimate of the costs of such activities and the amount of funds to be made available. The funding granted by the Omnibus Appropriations Act for Fiscal Year (FY) 2008 will provide an additional $4,919,086 in Title II funding to Pennsylvania, bringing the total allocation to Pennsylvania from this fund to $105,497,915.

The additional funds allocated to Pennsylvania under the Omnibus Appropriations Act for FY 2008 will be reserved for use by the Commonwealth government. The Commonwealth plans to expend the HAVA funds provided by the Election Assistance Commission for FY 2008 to improve efficiency and implement technological upgrades to Pennsylvania's Statewide Uniform Registry of Electors (SURE), the centralized voter registration database. The Commonwealth will spend an estimated $3,921,086 for SURE for the following: SURE system enhancements ($2,221.086), SURE P.O.rtal enhancements ($850,000), and SURE interface upgrades ($850,000). The Commonwealth plans to use the remaining $998,000.00 of its FY 2008 funds for administrative costs, including personnel and operating costs, to administer HAVA.

In its budget for FY 2008, the Commonwealth has budgeted an estimated $7,700,000 for the ongoing implementation, enhancement, and operation of SURE. This amount exceeds the 5% matching funds ($258,899) required in order to be eligible to receive these additional funds.

Elements 12 and 13

Under Elements 12 and 13 of the State Plan, the Commonwealth discusses the State Plan Advisory Board (Board) that was created by the Pennsylvania General Assembly under section 205 of the Pennsylvania Election Code to be the committee required by section 255 of HAVA to develop the State Plan. The Department relies on the supP.O.rt and consultation of the Board for continued success in reaching HAVA's goals and objectives. The original Board members served for a term of five years, which expired in 2007. As of July 7, 2008, the new Board members are as follows:

• Gladys M. Brown, Public At Large Member

• Elaine Welch, Blind & Visually Impaired Pennsylvanians

• Vice-Chair Deena K. Dean, Director of Elections, Bucks County (county of the second class A)

• Joyce McKinley, Director of Elections for Centre County (county of a fifth class county)

• Denise W. Jones, Chief Clerk/Director of Elections, Venango County (county of the sixth class)

• Sandra Lewis, Elections Director, P.O.tter County

• Patricia P. Nace, Director of Elections, Snyder County (county of the seventh class)

• Chair Robert Lee, Jr., Voter Registration Administrator, Philadelphia County (county of the first class)

• Thomas M. Michin, Legislative Committee Chairman, Disabled American Veterans of PA

• Robert A. Gleason Jr., Chairman, Republican State Committee of PA

• Leonard C. Piazza, III, Director of Elections, Luzerne County (county of the third class)

• Representative T.J. Rooney, Chair, Democratic State Committee of PA

• Larry Spahr, Director of Elections, Washington County (county of the fourth class)

• Josh Wilson, Public At Large Member

• Mark Wolosik, Division Manager for Elections, Allegheny County (county of the second class)

[FR Doc. E8-25455 Filed 10-24-08; 8:45 am]

BILLING CODE 6820-KF-P